DEPARTMENT OF DEFENSE

Department of the Army; Corps of Engineers

Intent to Prepare a Draft Environmental Impact Statement for the Brooklyn Navy Yard, Brooklyn, Kings County, NY

AGENCY: Department of the Army, U.S. Army Corps of Engineers, DoD.

ACTION: Notice of intent.

SUMMARY: The U.S. Army Corps of Engineers (Corps), New York District, is preparing a Draft Environmental Impact Statement (DEIS) to ascertain compliance with and to lead to the production of a National Environmental Policy Act (NEPA) document in accordance with the President's Council of Environmental Quality (CEQ) Rules and Regulations, as defined and amended in 40 Code of Federal Regulations (CFR), Parts 1500-1508, Corps principals and guidelines as defined in Engineering Regulations (ER) 1105-2-100, other applicable Federal and State environmental laws for the proposed Brooklyn Navy Yard Project. The study area consists of the portion of the Navy Yard commonly known as “Admiral's Row” and “Officer Quarters”. The Navy Yard is located in the Greenpoint section of Brooklyn, Kings County, NY. This parcel, located within the former Brooklyn Navy Yard, would be transferred to the City of New York. The EIS process will determine if there are any environmental and cultural concerns that will affect the sale of the land. The land would be developed in accordance with the mission of the Brooklyn Navy Yard Development Corporation and the City of New York.

ADDRESSES: U.S. Army Corps of Engineers, New York District, Planning Division, Environmental Branch, 26 Federal Plaza, Room 2151, New York, NY 10278-0090.

FOR FURTHER INFORMATION CONTACT: Dr. Christopher Ricciardi, Project Archaeologist, at (917) 790-8630 or at christopher.g.ricciardi@usace.army.mil.

SUPPLEMENTARY INFORMATION: 1. A DEIS is due for completion by the end of July 2006.

2. A public information meeting will be held during the DEIS process and comments and issues will be incorporated into the document.

3. Individuals interested in obtaining a copy of the DEIS for review should send their contract information to Dr. Christopher Ricciardi (see ADDRESSES).

4. Federal agencies interested in participating as a Cooperating Agency are requested to submit a letter of intent to COL Richard J. Polo, District Engineer (see ADDRESSES).

Leonard Houston,
Acting Chief, Planning Division.

[FR Doc. 06-5921 Filed 6-29-06; 8:45 am]

BILLING CODE 3710-06-M